DEPARTMENT OF COMMERCE

National Oceanic and Atmospheric Administration

RIN 0648-XE201

Notice of Availability of the Deepwater Horizon Oil Spill Louisiana Trustee Implementation Group Final Strategic Restoration Plan and Environmental Assessment #3

AGENCY: National Marine Fisheries Service (NMFS), National Oceanic and Atmospheric Administration (NOAA), Department of Commerce.

ACTION: Notice of availability.

SUMMARY: In accordance with the Oil Pollution Act of 1990 (OPA), the National Environmental Policy Act (NEPA), and a Consent Decree with BP Exploration & Production Inc. (BP), the Deepwater Horizon Federal and State natural resource trustee agencies for the Louisiana Trustee Implementation Group (LA TIG) have prepared the Final Strategic Restoration Plan and Environmental Assessment #3: Restoration of Wetlands, Coastal, and Nearshore Habitats in the Barataria Basin, Louisiana (SRP/EA). The Final SRP/EA identifies and, in conjunction with the associated Finding of No Significant Impact (FONSI), selects a restoration strategy that will help prioritize future decisions regarding project selection and funding. Rather than selecting specific projects for construction, the Trustees evaluated a suite of restoration techniques and approaches, for example large-scale diversions or marsh creation, to determine how to best support restoring ecosystem-level injuries in the Gulf of Mexico through restoration in the Barataria Basin. This strategic approach to restoration will allow the Trustees to prioritize projects for further evaluation by the LA TIG. The purpose of this notice is to inform the public of the availability of the Final SRP/EA and FONSI.

ADDRESSES: Obtaining Documents: You may download the Final SRP/EA and FONSI at: http://www.gulfspillrestoration.noaa.gov and http://www.la-dwh.com. Alternatively, you may request a CD of the Final SRP/EA and FONSI (see FOR FURTHER INFORMATION CONTACT). In addition, you may view the document at any of the public facilities listed at http://www.gulfspillrestoration.noaa.gov.

FOR FURTHER INFORMATION CONTACT:

• National Oceanic and Atmospheric Administration—Mel Landry, gulfspill.restoration@noaa.gov, (301) 427-8711.

• Louisiana—Joann Hicks, LATIGPublicComments@la.gov, (225) 342-7308.

SUPPLEMENTARY INFORMATION:

Introduction

On April 20, 2010, the mobile offshore drilling unit Deepwater Horizon, which was being used to drill a well for BP in the Macondo prospect (Mississippi Canyon 252-MC252), exploded, caught fire, and subsequently sank in the Gulf of Mexico, resulting in an unprecedented volume of oil and other discharges from the rig and from the wellhead on the seabed. The Deepwater Horizon oil spill is the largest maritime oil spill in United States history, discharging millions of barrels of oil over a period of 87 days. In addition, well over one million gallons of dispersants were applied to the waters of the spill area in an attempt to disperse the spilled oil. An undetermined amount of natural gas also was released to the environment as a result of the spill.

The Deepwater Horizon Federal and State natural resource trustees (DWH Trustees) conducted the NRDA for the Deepwater Horizon oil spill under the Oil Pollution Act of 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior, as represented by the National Park Service, U.S. Fish and Wildlife Service, and Bureau of Land Management;

• National Oceanic and Atmospheric Administration, on behalf of the U.S. Department of Commerce;

• U.S. Department of Agriculture;

• U.S. Environmental Protection Agency;

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

On April 4, 2016, the DWH Trustees reached and finalized a settlement of their natural resource damages claims with BP in a Consent Decree approved by the U.S. District Court for the Eastern District of Louisiana. Pursuant to that Consent Decree, restoration projects in the Louisiana Restoration Area are now chosen and managed by the LA TIG. The LA TIG is comprised of the following DWH Trustees:

• State of Louisiana Coastal Protection and Restoration Authority (CPRA);

• Louisiana Oil Spill Coordinator's Office (LOSCO);

• Louisiana Department of Environmental Quality (LDEQ);

• Louisiana Department of Wildlife and Fisheries (LDWF);

• Louisiana Department of Natural Resources (LDNR);

• U.S. Department of the Interior, as represented by National Park Service, U.S. Fish and Wildlife Service, and Bureau of Land Management;

• National Oceanic and Atmospheric Administration, on behalf of the U.S. Department of Commerce;

• U.S. Department of Agriculture; and

• U.S. Environmental Protection Agency.

This restoration planning activity is proceeding in accordance with the PDARP/PEIS. Information on the Restoration Type considered in the Final SRP/EA, as well as the OPA criteria against which alternatives were evaluated, can be viewed in the PDARP/PEIS (http://www.gulfspillrestoration.noaa.gov/restoration-planning/gulf-plan) and in the Overview of the PDARP/PEIS (http://www.gulfspillrestoration.noaa.gov/restoration-planning/gulf-plan).

Background

On March 29, 2017, the LA TIG solicited project ideas to sustainably create, restore, and enhance coastal wetlands, and restore or preserve Mississippi River processes (http://www.gulfspillrestoration.noaa.gov/2017/03/request-restoration-project-ideas-louisiana). From that input and review of other Louisiana restoration planning efforts, including Louisiana's Coastal Master Plan and Deepwater Horizon restoration planning efforts, the LA TIG published a notice of intent on April 28, 2017 announcing its initiation of strategic restoration planning through two phases (82 FR 19659). The first phase would prepare a strategic restoration plan for Louisiana's Barataria Basin. The Deepwater Horizon spill created an ecosystem-level injury to the Gulf of Mexico, which included accelerated loss of critical wetlands, coastal, and nearshore habitats as well as injuries across all trophic levels in the Gulf of Mexico. The most severe losses to coastal marshes, which represent the foundation of the Gulf of Mexico ecosystem, were focused on the Barataria Basin. As described in the April 28, 2017 notice, the LA TIG prepared a Draft SRP/EA which focused on wetlands, coastal, and nearshore habitat restoration type projects in the Barataria Basin restoration area. This geographic focus is appropriate as the PDARP/PEIS found that the Barataria Basin experienced some of the heaviest and most persistent oiling from the DWH spill and because the Basin supports very high primary and secondary production that contributes to the overall health of the northern Gulf of Mexico ecosystem.

A Notice of Availability of the Deepwater Horizon Oil Spill Louisiana Trustee Implementation Group Draft Strategic Restoration Plan and Environmental Assessment #3: Restoration of Wetlands, Coastal and Nearshore Habitats in the Barataria Basin, Louisiana (Draft SRP/EA) was published in the Federal Register on December 20, 2017. The Draft SRP/EA proposed four strategic alternatives consistent with the Restoration Types selected in the PDARP/PEIS. The LA TIG evaluated these alternatives under criteria set forth in the OPA regulations, and evaluated the environmental consequences of the restoration alternatives in accordance with NEPA. The LA TIG provided the public with 45 days to review and provide comment on the Draft SRP/EA. During the public review period, which ended on February 5, 2018, the LA TIG held a public meeting in New Orleans on January 24, 2018. The LA TIG considered the public comments received, which informed the LA TIG's analyses and selection of the preferred alternative in the Final SRP/EA. A summary of the public comments received and the Trustees' responses to those comments are addressed in Chapter 7 of the Final SRP/EA.

Overview of the Final SRP/EA

The Final SRP/EA is being released in accordance with OPA, the OPA regulations in the Code of Federal Regulations (CFR) at 15 CFR part 990, and NEPA (42 U.S.C. 4321 et seq.).

The LA TIG focused the SRP/EA on two restoration approaches in the wetlands, coastal and nearshore habitat type described in the PDARP/PEIS: creating, restoring and enhancing coastal wetlands; and restoring and preserving Mississippi-Atchafalaya River processes. Within the two restoration approaches, the PDARP/PEIS identifies a series of potential restoration techniques. These techniques, spanning both restoration approaches, are as follows (PDARP/PEIS, Appendix 5.D):

• Create or enhance coastal wetlands through placement of dredged material;

• Backfill canals;

• Restore hydrologic connections to enhance coastal habitats;

• Construct breakwaters; and

• Controlled river diversions.

Four project types, consistent with the restoration approaches in the PDARP/PEIS, are carried forward for additional consideration in the SRP/EA:

• Sediment diversion projects;

• Large-scale marsh creation projects;

• Ridge restoration projects; and

• Breakwater construction projects (also referred to as shoreline protection projects).

After reviewing the restoration approaches and techniques, the LA TIG identified 13 example projects from public submissions in response to the Notice of Solicitation and from the 2017 Coastal Master Plan. The LA TIG then combined restoration techniques into four strategic restoration alternatives. With the exception of the natural recovery/no action alternative, each of these alternatives meets the Final SRP/EA's purpose and need “to restore the ecosystem level injuries in Barataria Basin and to restore, rehabilitate, replace, or acquire the equivalent of the injured wetlands, coastal, and nearshore habitat resources and services and compensate for interim losses of those resources from the DWH oil spill.” The four strategic restoration alternatives are as follows:

• Alternative 1: Marsh creation, ridge restoration, and large-scale sediment diversion;

• Alternative 2: Marsh creation, ridge restoration, and shoreline protection;

• Alternative 3: Marsh creation and ridge restoration; and

• Alternative 4: Natural recovery/no action.

In the Final SRP/EA, the LA TIG identifies two decisions to restore ecosystem-level injuries in the Gulf of Mexico through restoration of critical wetlands, coastal, and nearshore habitat resources and services in the Barataria Basin. First, the LA TIG selects a preferred alternative that relies on a suite of restoration approaches and techniques in the Barataria Basin, including large-scale sediment diversions to restore deltaic processes, marsh creation, and ridge restoration. Second, the LA TIG selects to advance several projects forward for further evaluation and planning: The Mid-Barataria Sediment Diversion and one marsh creation increment within Large Scale Marsh Creation: Component E in northern Barataria Basin. The LA TIG also confirms its 2017 decision to move the Spanish Pass Increment of the Barataria Basin Ridge and Marsh Creation project forward for further evaluation and planning. The trustees are not proposing these projects for construction funding at this time. Rather, the trustees will continue to consider the selected projects in future Phase II restoration plans including further OPA and NEPA evaluation.

The LA TIG evaluated strategic restoration alternatives under criteria set forth in the OPA regulations. The strategic restoration alternatives are consistent with the restoration alternatives selected in the Deepwater Horizon Oil Spill: Final Programmatic Damage Assessment and Restoration Plan/Programmatic Environmental Impact Statement (PDARP/PEIS).

NEPA requires federal agencies to consider the potential environmental impacts of planned actions. NEPA provides a mandate and framework for federal agencies to determine if their proposed actions have significant environmental effects and related social and economic effects, consider these effects when choosing between alternative approaches, and inform and involve the public in the environmental analysis and decision-making process. The LA TIG exercised its discretion pursuant to NEPA (40 CFR 1501.3(b)) to integrate an EA with this SRP in order to assist with restoration planning efforts and to further the purposes of NEPA. This SRP/EA tiers from the PDARP/PEIS and incorporates by reference the NEPA environmental consequences analysis found in Chapter 6 of the PDARP/PEIS (40 CFR 1502.20; 1502.21). The LA TIG has found, based on its evaluation in the EA portion of this SRP/EA that: (1) The PDARP/PEIS included a thorough evaluation of the potential range of environmental effects that could result from the various restoration approaches and techniques analyzed in the PDARP/PEIS; (2) the analysis of the environmental consequences of those approaches and techniques in the PDARP/PEIS remains valid; (3) the effects of the restoration approaches and techniques, including the project selected for further planning and environmental review, evaluated in this SRP/EA are within the range of impacts evaluated in the PDARP/PEIS; and (4) any new information regarding the environmental consequences of the restoration approaches and techniques, including the projects selected for further planning and environmental review, evaluated within this SRP/EA are within the range of and consistent with the environmental impacts identified and analyzed within the PDARP/PEIS. The Federal Trustees of the LA TIG have determined that implementation of the Final SRP/EA is not a major Federal Action significantly affecting the quality of the human environment within the context of NEPA. They have concluded a FONSI is appropriate, and, therefore, an Environmental Impact Statement will not be prepared for this action.

Administrative Record

The documents comprising the Administrative Record for the Draft SRP/EA can be viewed electronically at http://www.doi.gov/deepwaterhorizon/adminrecord.

Authority

The authority for this action is OPA (33 U.S.C. 2701 et seq.), the OPA NRDA regulations at 15 CFR part 990, and NEPA (42 U.S.C. 4321 et seq.).

Dated: March 15, 2018.
Carrie Selberg,
Deputy Director, Office of Habitat Conservation, National Marine Fisheries Service.

[FR Doc. 2018-05691 Filed 3-20-18; 8:45 am]

BILLING CODE 3510-22-P